DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On February 22, 2023, OFAC determined that the property and interests in property subject to U.S. jurisdiction of the following persons are blocked under the relevant sanctions authority listed below.

Individuals

1. ARREDONDO BELTRAN, Jose Santana, Culiacan, Sinaloa, Mexico; DOB 27 Jun 1977; POB Sinaloa, Mexico; nationality Mexico; Gender Male; C.U.R.P. AEBS770627HSLRLN05 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. FLORES MADRID, Luis Gerardo, Mexico; DOB 09 Mar 1988; POB Sinaloa, Mexico; nationality Mexico; Gender Male; C.U.R.P. FOML880309HSLLDS09 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. MACHADO TORRES, Ernesto, Mexico; DOB 15 Apr 1984; POB Sinaloa, Mexico; nationality Mexico; Gender Male; C.U.R.P. MATE840415HSLCRR00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

4. ZAMUDIO LERMA, Ludim, Boulevard Doctor Mora 1776, Colonia La Campina, Culiacan, Sinaloa, Mexico; DOB 19 Apr 1972; POB Sinaloa, Mexico; nationality Mexico; Gender Male; C.U.R.P. ZALL720419HSLMRD06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

5. ZAMUDIO IBARRA, Ludim, Calle Diego Rivera 374, Interior 3, Colonia Privada Los Cisnes, Desarrollo Urbano Tres Rios, Culiacan, Sinaloa, Mexico; DOB 03 Sep 1991; POB Sinaloa, Mexico; nationality Mexico; Gender Male; C.U.R.P. ZAIL910903HSLMBD06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

6. ZAMUDIO LERMA, Luis Alfonso, Calle Frida Kahlo 2464, Fraccionamiento Residencial Los Cisnes, Culiacan, Sinaloa, Mexico; Calle Diego Valadez 1321, Col. Chapultepec, Culiacan, Sinaloa, Mexico; DOB 09 Apr 1965; POB Sinaloa, Mexico; nationality Mexico; Gender Male; C.U.R.P. ZALL650409HSLMRS03 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

Entities

1. ACEROS Y REFACCIONES DEL HUMAYA, S.A. DE C.V., Boulevard Doctor Enrique Cabrera 2000, Culiacan, Sinaloa, Mexico; Organization Established Date 21 Sep 2006; Folio Mercantil No. 41204 (Mexico) [ILLICIT-DRUGS-EO14059].

Designated pursuant to section 1(a)(i) of E.O. 14059 for having engaged in, or attempted to engage in, activities or transactions that have materially contributed to, or pose a significant risk of materially contributing to, the international proliferation of illicit drugs or their means of production.

2. FARMACIA LUDIM, Boulevard Doctor Enrique Cabrera, Tres Rios, Culiacan, Sinaloa, Mexico; Organization Type: Retail sale of pharmaceutical and medical goods, cosmetic and toilet articles in specialized stores [ILLICIT-DRUGS-EO14059].

Designated pursuant to section 1(a)(i) of E.O. 14059 for having engaged in, or attempted to engage in, activities or transactions that have materially contributed to, or pose a significant risk of materially contributing to, the international proliferation of illicit drugs or their means of production.

3. GRUPO ZAIT, S.A. DE C.V., Culiacan, Sinaloa, Mexico; Organization Established Date 22 Jul 2013; Folio Mercantil No. 82722 (Mexico) [ILLICIT-DRUGS-EO14059].

Designated pursuant to section 1(b)(iii) of E.O. 14059 for being owned, controlled, or directed by, or to have acted or purported to act for or on behalf of, directly or indirectly, Luis Alfonso ZAMUDIO LERMA, a person blocked pursuant to E.O. 14059.

4. INMOBILIARIA DEL RIO HUMAYA, S.A. DE C.V., Culiacan, Sinaloa, Mexico; Organization Established Date 20 Aug 2003; Folio Mercantil No. 73228 (Mexico) [ILLICIT-DRUGS-EO14059].

Designated pursuant to section 1(b)(iii) of E.O. 14059 for being owned, controlled, or directed by, or to have acted or purported to act for or on behalf of, directly or indirectly, Ludim ZAMUDIO LERMA, a person blocked pursuant to E.O. 14059.

5. OPERADORA DEL HUMAYA, S.A. DE C.V., Culiacan, Sinaloa, Mexico; Organization Established Date 16 Oct 2003; R.F.C. OHU0310161G2 (Mexico); Folio Mercantil No. 73385 (Mexico) [ILLICIT-DRUGS-EO14059].

Designated pursuant to section 1(b)(iii) of E.O. 14059 for being owned, controlled, or directed by, or to have acted or purported to act for or on behalf of, directly or indirectly, Ludim ZAMUDIO LERMA and Ludim ZAMUDIO IBARRA, persons blocked pursuant to E.O. 14059.

6. OPERADORA PARQUE ALAMEDAS, S. DE R.L. DE C.V., Culiacan, Sinaloa, Mexico; Organization Established Date 08 Nov 2006; Folio Mercantil No. 76172 (Mexico) [ILLICIT-DRUGS-EO14059].

Designated pursuant to section 1(b)(iii) of E.O. 14059 for being owned, controlled, or directed by, or to have acted or purported to act for or on behalf of, directly or indirectly, Ludim ZAMUDIO LERMA and Ludim ZAMUDIO IBARRA, persons blocked pursuant to E.O. 14059.

Dated: February 22, 2023.
Andrea M. Gacki,
Director, Office of Foreign Assets Control, U.S. Department of the Treasury.

[FR Doc. 2023-03948 Filed 2-24-23; 8:45 am]

BILLING CODE 4810-AL-P